DEPARTMENT OF ENERGY

Agency Information Collection Extension

AGENCY: U.S. Department of Energy.

ACTION: Notice of request for comments.

SUMMARY: The Department of Energy (DOE) invites public comments on a proposed collection of information that DOE is developing for submission to the Office of Management and Budget (OMB) pursuant to the Paperwork Reduction Act of 1995.

DATES: Comments regarding this proposed information collection must be received on or before September 29, 2025. If you anticipate any difficulty in submitting comments within that period, contact the person listed in the FOR FURTHER INFORMATION CONTACT section as soon as possible.

ADDRESSES: Written comments may be sent to Jeremy Simpson, 1000 Independence Avenue SW, Washington, DC 20585, or by email at Jeremy.simpson@ee.doe.gov.

FOR FURTHER INFORMATION CONTACT: Jeremy Simpson, Office of Integrated Strategies, (240) 446-0003, Jeremy.simpson@ee.doe.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW;

(2) Information Collection Request Title: EERE Small Businesses and Startups Impact Evaluation Data Collection.

(3) Type of Request: New.

(4) Purpose: The information collected through this effort is needed as an input to an evaluation study that will produce an analysis of the impact EERE's funding has had on small businesses between 2008 and 2024. The results of this evaluation study will be used by DOE leadership to understand the impact to date and opportunities for improvement in financial awards provided to small businesses. Respondents to this data collection effort will small businesses and startup companies that have applied for financial assistance, SBIR/STTR grants and prize funding from EERE between 2008 and 2024, and will include both award recipients and applicants who did not receive funding. This is planned to be a one-time data collection effort.

(5) Annual Estimated Number of Respondents: 9,000;

(6) Annual Estimated Number of Total Responses: 9,000;

(7) Annual Estimated Number of Burden Hours: 13,500;

(8) Annual Estimated Reporting and Recordkeeping Cost Burden: $751,275.

Statutory Authority: Foundations for Evidence-based Policymaking Act of 2018 (Pub. L. 115-435; Jan. 14, 2019).

Signing Authority

This document of the Department of Energy was signed on July 25, 2025, by Lou Hrkman, Principal Deputy Assistant Secretary of the Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on July 25, 2025.
Treena V. Garrett,
Federal Register Liaison Officer, U.S. Department of Energy.

[FR Doc. 2025-14353 Filed 7-29-25; 8:45 am]

BILLING CODE 6450-01-P